NATIONAL AERONAUTICS AND SPACE ADMINISTRATION

[Notice (21-088)]

Notice of Intent To Grant an Exclusive, Co-Exclusive or Partially Exclusive Patent License

AGENCY: National Aeronautics and Space Administration.

ACTION: Notice of intent to grant exclusive, co-exclusive or partially exclusive patent license.

SUMMARY: NASA hereby gives notice of its intent to grant an exclusive, co-exclusive or partially exclusive patent license to practice the inventions described and claimed in the patents and/or patent applications listed in SUPPLEMENTARY INFORMATION below.

DATES: The prospective exclusive, co-exclusive or partially exclusive license may be granted unless NASA receives written objections including evidence and argument, no later than December 30, 2021 that establish that the grant of the license would not be consistent with the requirements regarding the licensing of federally owned inventions as set forth in the Bayh-Dole Act and implementing regulations. Competing applications completed and received by NASA no later than December 30, 2021 will also be treated as objections to the grant of the contemplated exclusive, co-exclusive or partially exclusive license. Objections submitted in response to this notice will not be made available to the public for inspection and, to the extent permitted by law, will not be released under the Freedom of Information Act.

ADDRESSES: Objections and Further Information: Written objections relating to the prospective license or requests for further information may be submitted to Agency Counsel for Intellectual Property, NASA Headquarters at email: hq-patentoffice@mail.nasa.gov. Questions may be directed to Phone: (202) 358-3437.

SUPPLEMENTARY INFORMATION: NASA intends to grant an exclusive, co-exclusive, or partially exclusive patent license in the United States to practice the inventions described and claimed in: U.S. Patent No. 8,167,204 B2 for an invention titled “Wireless Damage Location Sensing System,” NASA Case Number LAR-17593-1; U.S. Patent No. 7,086,593 B2 for an invention titled “Magnetic Field Response Measurement Acquisition System,” NASA Case Number LAR-16908-1; U.S. Patent No. 7,159,774 B2 for an invention titled “Magnetic Field Response Measurement Acquisition System,” NASA Case Number LAR-17280-1; U.S. Patent No. 8,430,327 B2 for an invention titled “Wireless Sensing System Using Open-Circuit, Electrically-Conductive Spiral-Trace Sensor,” NASA Case Number LAR-17294-1; U.S. Patent No. 8,042,739 B2 for an invention titled “Wireless Tamper Detection Sensor and Sensing System,” NASA Case Number LAR-17444-1; U.S. Patent No. 7,814,786 B2 for an invention titled “Wireless Sensing System for Non-Invasive Monitoring of Attributes of Contents in a Container,” NASA Case Number LAR-17488-1; U.S. Patent No. 8,673,649 B2 for an invention titled “Wireless Chemical Sensor and Sensing Method for Use Therewith,” NASA Case Number LAR-17579-1; U.S. Patent No. 9,329,149 B2 for an invention titled “Wireless Chemical Sensor and Sensing Method for Use Therewith,” NASA Case Number LAR-17579-2; U.S. Patent No. 9,733,203 B2 for an invention titled “Wireless Chemical Sensing Method,” NASA Case Number LAR-17579-3; U.S. Patent No. 8,179,203 B2 for an invention titled “Wireless Electrical Device Using Open-Circuit Elements Having No Electrical Connections,” NASA Case Number LAR-17711-1; U.S. Patent No. 10,193,228 B2 for an invention titled “Antenna for Near Field Sensing and Far Field Transceiving,” NASA Case Number LAR-18400-1; U.S. Patent No. 7,075,295 B2 for an invention titled “Magnetic Field Response Sensor for Conductive Media,” NASA Case Number LAR-16571-1; U.S. Patent No. 7,589,525 B2 for an invention titled “Magnetic Field Response Sensor for Conductive Media,” NASA Case Number LAR-16571-2; U.S. Patent No. 7,759,932 B2 for an invention titled “Magnetic Field Response Sensor for Conductive Media,” NASA Case Number LAR-16571-3; U.S. Patent No. 7,047,807 B2 for an invention titled “Flexible Framework for Capacitive Sensing,” NASA Case Number LAR-16974-1; U.S. Patent No. 7,683,797 B2 for an invention titled “Damage Detection/Locating System Providing Thermal Protection,” NASA Case Number LAR-17295-1; U.S. Patent No. 7,711,509 B2 for an invention titled “Method of Calibrating a Fluid-Level Measurement System,” NASA Case Number LAR-17480-1; U.S. Patent No. 10,605,673 B2 for an invention titled “Wireless Temperature Sensor Having No Electrical Connections,” NASA Case Number LAR-17747-2-CON-1; U.S. Patent No. 8,636,407 B2 for an invention titled “Wireless Temperature Sensor Having No Electrical Connections and Sensing Method for Use Therewith,” NASA Case Number LAR-18016-1; U.S. Patent No. 10,031,031 B2 for an invention titled “Wireless Temperature Sensor Having No Electrical Connections and Sensing Method for Use Therewith,” NASA Case Number LAR-17747-1-CON; and U.S. Patent No. 10,180,341 B2 for an invention titled “Multi-Layer Wireless Sensor Construct for Use at Electrically Conductive Material Surfaces,” NASA Case Number LAR-18399-1 to Gyra Systems, Inc., having its principal place of business in La Mesa, California. The fields of use may be limited to particular package and content monitoring, and/or similar field(s) of use thereto. NASA has not yet made a final determination to grant the requested license and may deny the requested license even if no objections are submitted within the comment period.

This notice of intent to grant an exclusive, co-exclusive or partially exclusive patent license is issued in accordance with 35 U.S.C. 209(e) and 37 CFR 404.7(a)(1)(i). The patent rights in these inventions have been assigned to the United States of America as represented by the Administrator of the National Aeronautics and Space Administration. The prospective license will comply with the requirements of 35 U.S.C. 209 and 37 CFR 404.7.

Information about other NASA inventions available for licensing can be found online at http://technology.nasa.gov.

Helen M. Galus,
Agency Counsel for Intellectual Property.

[FR Doc. 2021-27111 Filed 12-14-21; 8:45 am]

BILLING CODE 7510-13-P